DEPARTMENT OF ENERGY

Federal Energy Regulatory Commission

[No. 946-007-Utah]

Hyrum City Hydroelectric Project; Notice of Availability of Environmental Assessment

December 20, 2007.

In accordance with the National Environmental Policy Act of 1969 and the Federal Energy Regulatory Commission's (Commission) regulations, 18 CFR part 380 (Order No. 486, 52 FR 47897), the Office of Energy Projects has reviewed the application for a subsequent license for the Hyrum City Hydroelectric Project, and has prepared an Environmental Assessment (EA). The operating project is located on Blacksmith Fork River in Hyrum City, Cache County, Utah. The project affects about 17.03 acres of federal lands within the Wasatch Cache National Forest.

The EA contains the staff's analysis of the potential environmental impacts of the project and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/esubscribenow.htm to be notified via e-mail of new filings and issuances related to this or other pending projects. For assistance, contact FERC Online Support at FERCOnlineSupport@ferc.gov or toll-free at 1-866-208-3676, or for TTY, (202) 502-8659.

Please contact Gaylord Hoisington by telephone at (202) 502-6032 or by e-mail at gaylord.hoisington@ferc.gov if you have any questions.

Kimberly D. Bose,
Secretary.

[FR Doc. E7-25324 Filed 12-28-07; 8:45 am]

BILLING CODE 6717-01-P